DEPARTMENT OF LABOR

Employment and Training Administration

[TA-W-63,253]

Intrapac, Inc., Montebello Packaging, Inc., Including On-Site Leased Workers From Adecco and Adams and Garth, Harrisonburg, VA; Amended Certification Regarding Eligibility To Apply for Worker Adjustment Assistance and Alternative Trade Adjustment Assistance

In accordance with Section 223 of the Trade Act of 1974 (19 U.S.C. 2273), and Section 246 of the Trade Act of 1074 (26 U.S.C. 2813), as amended, the Department of Labor issued a Certification of Eligibility to Apply for Worker Adjustment Assistance and Alternative Trade Adjustment Assistance on June 6, 2008, applicable to workers of IntraPac, Inc., including on-site leased workers from Adecco and Adams and Garth, Harrisonburg, Virginia. The notice was published in the Federal Register on June 20, 2008 (73 FR 35164).

At the request of the State agency, the Department reviewed the certification for workers of the subject firm. The workers are engaged in the production of collapsible aluminum and tin tubes and medical dose inhalers and are not separately identifiable by a specific product.

New information shows that on July 31, 2008, Montebello Packaging, Inc. purchased the aluminum portion and assets of the Harrisonburg, Virginia location of IntraPac, Inc. Production of tin tubes and medical dose inhalers will continue at the subject firm. Workers separated from employment at the Harrisonburg, Virginia location of the subject firm had their wages reported under two separate unemployment insurance (UI) tax accounts—Montebello Packaging, Inc. and IntraPac, Inc.

Accordingly, the Department is amending the certification to properly reflect this matter.

The intent of the Department's certification is to include all workers of IntraPac, Inc., Montebello Packaging, Inc., Harrisonburg, Virginia, who were adversely affected by increased imports following a shift in production to Venezuela, India and Czech Republic.

The amended notice applicable to TA-W-63,253 is hereby issued as follows:

All workers of IntraPac, Inc., Montebello Packaging, Inc., including on-site leased workers from Adecco and Adams and Garth, Harrisonburg, Virginia, who became totally or partially separated from employment on or after April 25, 2007, through June 6, 2010, are eligible to apply for adjustment assistance under Section 223 of the Trade Act of 1974, and are also eligible to apply for alternative trade adjustment assistance under Section 246 of the Trade Act of 1974.

Signed at Washington, DC, this 29th day of January 2009.
Richard Church,
Certifying Officer, Division of Trade Adjustment Assistance.

[FR Doc. E9-3031 Filed 2-12-09; 8:45 am]

BILLING CODE 4510-FN-P